FEDERAL ELECTION COMMISSION

Sunshine Act Meetings

AGENCY: Federal Election Commission.

DATE AND TIME: Thursday, March 5, 2015 at 10:00 a.m.

PLACE: 999 E Street NW., Washington, DC (Ninth Floor)

STATUS: This meeting will be open to the public.

FEDERAL REGISTER NOTICE OF PREVIOUS ANNOUNCEMENT: 80 FR 11202, March 2, 2015.

CHANGE IN THE MEETING: The meeting has been rescheduled for Tuesday, March 10, 2015 at 1:00 p.m.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer Telephone: (202) 694-1220.

Shawn Woodhead Werth,
Secretary and Clerk of the Commission.

[FR Doc. 2015-05440 Filed 3-4-15; 04:15 pm]

BILLING CODE 6715-01-P